DEPARTMENT OF TRANSPORTATION

National Highway Traffic Safety Administration

[Docket No. NHTSA-99-6583; Notice 3]

Cancellation of Public Workshop

AGENCY: National Highway Traffic Safety Administration.

ACTION: Cancellation of public workshop.

SUMMARY: We are issuing this notice to inform the public of the cancellation of the public workshop for the New Car Assessment Program (NCAP) on Consumer Braking Information. The workshop, scheduled for September 26, 2001, in Washington, DC, will not be held. The agency strongly urges all interested parties to submit written comments to the subject docket by October 15, 2001. These comments, and any data that are submitted, will be used to assist in finalizing plans for a pilot program on brake testing of model year 2003 vehicles.

DATES: We are canceling the public workshop scheduled for September 26, 2001.

FOR FURTHER INFORMATION CONTACT: Mr. Jeff Woods, Office of Safety Performance Standards, NPS-22, National Highway Traffic Safety Administration, 400 Seventh Street SW, Washington, DC 20590. Telephone: (202) 366-6206; Fax: (202) 366-4329, email: jwoods@nhtsa.dot.gov.

SUPPLEMENTARY INFORMATION:

Background

On July 17, 2001, we published a Federal Register Notice (66 FR 37253) requesting comments on our consumer braking information program for light vehicles that are currently subjected to the NCAP program. We also announced a public workshop for September 26, 2001, to discuss technical issues of this program. On September 4, 2001, the agency published a second notice (66 FR 46305), providing more details of the meeting. The purpose of the meeting was to have an open discussion on issues including driver variability, test surface variability, and the consumer information format, prior to the public preparing their formal comments and submitting them to the docket.

A number of people who had planned to attend the meeting have contacted NHTSA to tell us that they cannot travel to Washington at this time. Therefore, NHTSA has decided to cancel the public meeting scheduled for September 26, 2001. We believe we can have an effective public dialogue on this subject using the normal notice and comment procedures.

As stated in our July 17, 2001, Request for Comments notice, the comment period will close on October 15, 2001. We will review all of the comments regarding technical aspects of our draft test protocol and suggestions for methods of reporting braking information to consumers, and consider what additional research or testing may be appropriate in the near term to address any concerns that are raised. We do not have plans to reschedule the public meeting at this time, but will consider the need to do so once we have reviewed the comments that are submitted. We anticipate that future Federal Register notices and submissions to the docket will keep the public informed of our progress on this program, such as finalizing the test protocol and the format for such consumer information.

Availability of Relevant Documents

The July 17, 2001, Request for Comments notice for the NCAP Braking program has been placed in the docket. To obtain that notice, you may either visit the docket in Washington, DC, or query the Department of Transportation docket website.

The docket is located at Room PL-401, 400 Seventh Street, SW, Washington, DC. Docket hours are 9 a.m. to 5 p.m., Monday through Friday. The Docket Management System website is http://dms.dot.gov/. You should search for Docket No. 6583.

Written Comments

We urge all interested parties to provide written comments on this program, especially those that will help to improve the quality of the program. Please submit them by the comment closing date of October 15, 2001. Comments must refer to the Docket and Notice numbers cited at the beginning of this notice and be submitted to: Docket Management, Room PL-401, 400 Seventh Street, SW, Washington, D.C. 20590. The Docket Section is open on weekdays from 9:00 AM to 5:00 PM. Alternatively, you may submit your comments electronically by logging onto the Docket Management System website at http://dms.dot.gov. Click on “Help & Information” or “Help/Info” to view instructions for filing your comments electronically. Regardless of how you submit your comments, you should mention the docket number (6583) of this program.

Issued on: September 21, 2001.
Noble N. Bowie,
Acting Associate Administrator for Safety Performance Standards.

[FR Doc. 01-24101 Filed 9-25-01; 8:45 am]

BILLING CODE 4910-59-P